DEPARTMENT OF THE INTERIOR

Bureau of Land Management

[WY-950-1420-00-P]

Filing of Plats of Survey; Wyoming

AGENCY: Bureau of Land Management, Interior.

ACTION: Notice.

The plats of the following described lands were officially filed in the Wyoming State Office, Bureau of Land Management, Cheyenne, Wyoming, effective 10:00 a.m., August 1, 2001.

The plat representing the dependent resurvey of a portion of the subdivisional lines, T. 50 N., R. 74 W., Sixth Principal Meridian, Wyoming, Group No. 634, was accepted July 30, 2001.

The plat representing the dependent resurvey of the south and north boundaries and the subdivisional lines, T. 51 N., R. 74 W., Sixth Principal Meridian, Wyoming, Group No. 653, was accepted July 30, 2001.

The plat representing the dependent resurvey of a portion of the subdivisional lines, and the metes and bounds survey of Tract 37, T. 50 N., R. 84 W., Sixth Principal Meridian, Wyoming, Group No. 663, was accepted July 30, 2001.

The plat representing the dependent resurvey of portions of the subdivisional lines, and Mineral Surveys Nos. 50, 80, 89, 183 and 509, the subdivision of section 30 and the metes and bounds surveys of Lots 16, 19 and 24, section 20, T. 29 N., R. 100 W., Sixth Principal Meridian, Wyoming, Group No. 680, was accepted July 30, 2001.

Dated: August 1, 2001.
John P. Lee,
Chief Cadastral Survey Group.

[FR Doc. 01-21057 Filed 8-20-01; 8:45 am]

BILLING CODE 4310-22-P